COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete product(s) and service(s) from the Procurement List that were furnished by nonprofit agencies employing persons who are blind or have other severe disabilities.

DATES: Comments must be received on or before: May 21, 2023.

ADDRESSES: Committee for Purchase From People Who Are Blind or Severely Disabled, 355 E Street SW, Washington, DC 20024.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following product(s) and service(s) are proposed for deletion from the Procurement List:

Product(s)

NSN(s)—Product Name(s):

7530-01-590-7110—Paper, Thermal, Roll, White, 2¼″ × 165′

Designated Source of Supply: CINCINNATI ASSOCIATION FOR THE BLIND AND VISUALLY IMPAIRED, Cincinnati, OH

Contracting Activity: GSA/FAS ADMIN SVCS ACQUISITION BR(2, NEW YORK, NY

Service(s)

Service Type: Dispatcher

Mandatory for: Defense Logistics Agency, Defense Supply Center Richmond, 8000 Jefferson Davis Highway, Richmond, VA

Designated Source of Supply: SOAR 365, Richmond, VA

Contracting Activity: DEFENSE LOGISTICS AGENCY, DCSO RICHMOND

Service Type: Firewatch/Tank Void/Lead Handler Support Services

Mandatory for: Puget Sound Naval Ship Yards at Bremerton, Bangor and Keyport, WA

Designated Source of Supply: Skookum Educational Programs, Bremerton, WA

Contracting Activity: DEPT OF THE NAVY, NAVSUP FLT LOG CTR PUGET SOUND

Michael R. Jurkowski,
Acting Director, Business Operations.

[FR Doc. 2023-08489 Filed 4-20-23; 8:45 am]

BILLING CODE 6353-01-P